DEPARTMENT OF THE INTERIOR

Minerals Management Service

Outer Continental Shelf (OCS), Alaska OCS Region, Cook Inlet Oil and Gas Sale 199, May 2007

AGENCY: Minerals Management Service (MMS), Interior.

ACTION: Request for information (RFI).

SUMMARY: The Secretary's approved 5-Year OCS Oil and Gas Leasing Program for 2002-2007 provides for two sales, Sales 191 and 199, to be held in the Cook Inlet planning area. An Environmental Impact Statement (EIS) that covered both sales was prepared. The RFI and a Notice of Intent (NOI) to prepare an EIS for Sales 191 and 199 was published in the Federal Register on December 31, 2001, at 66 FR 67543. The Cook Inlet final EIS for Sales 191 and 199 was released in November 2003 (OCS EIS/EA, MMS 2003-055). The first sale, Sale 191, was held on May 19, 2004; however, the sale received no bids.

The RFI/NOI for Sale 199 was published in the Federal Register on December 27, 2004, at 69 FR 77265, with a proposed date of sale in May 2006. Since neither comments nor interest were received from the oil and gas industry, the MMS decided to delay the sale until May 2007. The MMS is now asking if industry or others have interest in holding Cook Inlet Sale 199 in May 2007. If bona fide interest from companies is received, we will proceed with the planning for the sale. If no interest is shown, Sale 199 will not be held.

Comment Period: Comments on the RFI must be received no later than 30 days following publication of this document in the Federal Register. If you wish to comment, you may submit your comments by any one of the following methods:

• You may mail comments to the Alaska OCS Region, Minerals Management Service, 3801 Centerpoint Drive, Suite 500, Anchorage, Alaska 99503, in envelopes labeled “Attn: Comments on Request for Information for Cook Inlet Sale 199.”

• You may also comment via e-mail to akrfi@mms.gov. Please submit Internet comments as an ASCII file, avoiding the use of special characters and any form of encryption. Please also include “Attn: Comments on Request for Information for Cook Inlet Sale 199” and your name and return address in your Internet message. If you do not receive a confirmation from the system that we have received your Internet message, contact us via e-mail to: akwebmaster@mms.gov.

• You may fax your comments to MMS at (907) 334-5242.

• Finally, you may hand-deliver comments weekdays between 8 a.m. and 5 p.m. to the Alaska OCS Region, Minerals Management Service, 3801 Centerpoint Drive, Suite 500, Anchorage, Alaska 99503.

FOR FURTHER INFORMATION CONTACT: Please contact Steve Flippen at (907) 334-5268 in MMS's Alaska OCS Region regarding questions on the RFI.

Purpose of Request

The purpose of this additional RFI is to gather information for Oil and Gas Lease Sale 199 in the Cook Inlet, scheduled for May 2007. Information on oil and gas leasing, exploration, and development and production within the Cook Inlet are sought from all interested parties. This early planning and consultation step is important for ensuring that all interests and concerns are communicated to the Department of the Interior for decisions in the leasing process.

The Call for Information and Nominations published in the Federal Register on December 31, 2001, requested information and nominations from industry for Sales 191 and 199 in the Cook Inlet Planning Area. The RFI/NOI for Sale 199 was published in the Federal Register on December 27, 2004, at 69 FR 77265, with a proposed date of sale in May 2006. Because no comments or interest were received from the oil and gas industry, the MMS decided to delay the sale until May 2007. Unless the MMS receives indications of industry interest in response to this RFI, Sale 199 will not be held.

Areas of Interest to the Oil and Gas Industry

The MMS requests industry to submit any new information, including nomination of blocks that are of significant interest for exploration and development and production. Information and nominations submitted in response to the multiple-sale Call for Sales 191 and 199, published on December 31, 2001 (66 FR 67543), and the RFI/NOI for Sale 199 published in the Federal Register on December 27, 2004, at 69 FR 77265, will also be considered as information and nominations for the Sale 199 area identification process.

Nominations must be depicted on the RFI map by outlining the area(s) of interest along block lines. Nominators are asked to submit a list of whole and partial blocks nominated (by OPD and block number) to facilitate correct interpretation of their nominations on the Request for Information map. Although the identities of those submitting nominations become a matter of public record, the individual nominations are proprietary information.

Nominators also are requested to rank blocks nominated according to priority of interest [e.g., priority 1 (high), or 2 (medium)]. Blocks nominated that do not indicate priorities will be considered priority 3 (low). Nominators must be specific in indicating blocks by priority and be prepared to discuss their range of interest and activity regarding the nominated area(s). The telephone number and name of a person to contact in the nominator's organization for additional information should be included in the response. This person will be contacted to set up a mutually agreeable time and place for a meeting with the Alaska OCS Regional Office to present their views regarding the company's nominations.

SUPPLEMENTARY INFORMATION: For questions concerning the sale process and required NEPA documents, please refer to the RFI/NOI for Sale 199 published in the Federal Register on December 27, 2004, at 69 FR 77265 or on the MMS Web site: http://www.mms.gov/alaska.

Tentative Schedule

The following is a list of tentative milestone dates applicable to Cook Inlet Sale 199 covered by this RFI:

Request for Information published: November 2005.

Area Identification: February 2006.

National Environmental Policy Act/Environmental Assessment Review (or Supplemental EIS) published: August 2006.

Proposed Notice and Consistency Determination: December 2006.

Final Notice of Sale: April 2007.

Tentative Sale Date: May 2007.

Dated: November 16, 2005.
Johnnie Burton,
Director, Minerals Management Service.

BILLING CODE 4310-MR-P

[FR Doc. 05-23657 Filed 12-5-05; 8:45 am]

BILLING CODE 4310-MR-C